DEPARTMENT OF TRANSPORTATION

Federal Aviation Administration

14 CFR Part 39

[Docket No. FAA-2008-0909; Directorate Identifier 2007-NM-363-AD; Amendment 39-16301; AD 2010-10-22]

RIN 2120-AA64

Airworthiness Directives; BAE SYSTEMS (Operations) Limited Model BAe 146 Airplanes and Model Avro 146-RJ Airplanes

AGENCY: Federal Aviation Administration (FAA), Department of Transportation (DOT).

ACTION: Final rule.

SUMMARY: The FAA is superseding an existing airworthiness directive (AD), which applies to Model BAe 146 airplanes and Model Avro 146-RJ airplanes. That AD currently requires revising the Airworthiness Limitations Section (ALS) of the Instructions for Continued Airworthiness to incorporate life limits for certain items and inspections to detect fatigue cracking in certain structures. This new AD requires incorporating new and more restrictive life limits for certain items and for certain inspections to detect fatigue cracking in certain structures. This AD also requires revising the airworthiness limitations to include critical design configuration control limitations for the fuel system. This AD results from issuance of a later revision to the airworthiness limitations. We are issuing this AD to ensure that fatigue cracking of certain structural elements is detected and corrected, and to prevent ignition sources in the fuel tanks; fatigue cracking of certain structural elements could adversely affect the structural integrity of these airplanes.

DATES: This AD becomes effective June 25, 2010.

The Director of the Federal Register approved the incorporation by reference of a certain publication listed in the AD as of June 25, 2010.

ADDRESSES: For BAE SYSTEMS (Operations) Limited service information identified in this AD, contact BAE Systems Regional Aircraft, 13850 McLearen Road, Herndon, Virginia 20171; telephone 703-736-1080; e-mail raebusiness@baesystems.com; Internet http://www.baesystems.com/Businesses/RegionalAircraft/index.htm.

For Messier-Dowty service information identified in this AD, contact Messier-Dowty Limited, Cheltenham Road, Gloucester GL2 9QH, England; telephone +44(0)1452 712424; fax +44(0)1452 713821; Internet https://techpubs.services.messier-dowty.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, FAA, Transport Airplane Directorate, 1601 Lind Avenue, SW., Renton, Washington 98057-4056; telephone (425) 227-1175; fax (425) 227-1149.

SUPPLEMENTARY INFORMATION:

Discussion

The FAA issued a supplemental notice of proposed rulemaking (NPRM) to amend 14 CFR part 39 to include an AD that supersedes AD 2005-23-12, Amendment 39-14370 (70 FR 70483, November 22, 2005). The existing AD applies to all BAE SYSTEMS (Operations) Limited Model BAe 146 airplanes and Model Avro 146-RJ airplanes. That supplemental NPRM was published in the Federal Register on March 9, 2010 (75 FR 10701). That supplemental NPRM proposed to continue to require revising the Airworthiness Limitations Section (ALS) of the Instructions for Continued Airworthiness to incorporate life limits for certain items and inspections to detect fatigue cracking in certain structures. That supplemental NPRM proposed to require incorporating new and more restrictive life limits for certain items and for certain inspections to detect fatigue cracking in certain structures. That supplemental NPRM also proposed to require revising the airworthiness limitations to include critical design configuration control limitations for the fuel system.

Comments

We provided the public the opportunity to participate in the development of this AD. No comments have been received on the supplemental NPRM or on the determination of the cost to the public.

Conclusion

We have carefully reviewed the available data and determined that air safety and the public interest require adopting the AD as proposed in the supplemental NPRM.

Costs of Compliance

The following table provides the estimated costs for U.S. operators to comply with this AD.

Estimated Costs
Action | Work hours | Average labor rate per hour | Parts | Cost per airplane | Number of U.S.- registered airplanes | Fleet cost
ALS Revision (required by AD 2005-23-12) | 1 | $85 | None | $85 | 1 | $85
ALS Revision (new action) | 1 | 85 | None | 85 | 1 | 85

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing Amendment 39-14370 (70 FR 70483, November 22, 2005) and by adding the following new airworthiness directive (AD):

2010-10-22 BAE SYSTEMS (Operations) Limited: Amendment 39-16301. Docket No. FAA-2008-0909; Directorate Identifier 2007-NM-363-AD.

Effective Date

(a) This AD becomes effective June 25, 2010.

Affected ADs

(b) This AD supersedes AD 2005-23-12, Amendment 39-14370.

Applicability

(c) This AD applies to all BAE SYSTEMS (Operations) Limited Model BAe 146-100A, -200A, and -300A series airplanes; and Model Avro 146-RJ70A, 146-RJ85A, and 146-RJ100A airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (k) of this AD. The request should include a description of changes to the required inspections that will ensure the continued operational safety of the airplane.

Subject

(d) Air Transport Association (ATA) of America Code 05.

Unsafe Condition

(e) This AD results from issuance of a later revision to the airworthiness limitations of the BAE SYSTEMS (Operations) Limited BAe146 Series/Avro146-RJ Series Aircraft Maintenance Manual (AMM), which specifies new inspections and compliance times for inspection and replacement actions. We are issuing this AD to ensure that fatigue cracking of certain structural elements is detected and corrected, and to prevent ignition sources in the fuel tanks; fatigue cracking of certain structural elements could adversely affect the structural integrity of these airplanes.

Compliance

(f) You are responsible for having the actions required by this AD performed within the compliance times specified, unless the actions have already been done.

RESTATEMENT OF CERTAIN REQUIREMENTS OF AD 2005-23-12:

Airworthiness Limitations Revision

(g) Within 30 days after December 27, 2005 (the effective date of AD 2005-23-12), revise the Airworthiness Limitations Section (ALS) of the Instructions for Continued Airworthiness to incorporate new and more restrictive life limits for certain items and new and more restrictive inspections to detect fatigue cracking in certain structures, in accordance with a method approved by the Manager, International Branch, ANM-116, Transport Airplane Directorate, FAA; or the Civil Aviation Authority (or its delegated agent).

NEW REQUIREMENTS OF THIS AD:

New Airworthiness Limitations Revisions

(h) Within 90 days after the effective date of this AD, revise Chapter 5 of the BAE SYSTEMS (Operations) Limited BAe146 Series/Avro146-RJ Series AMM to incorporate new and more restrictive life limits for certain items and new and more restrictive inspections to detect fatigue cracking in certain structures, and to add fuel system critical design configuration control limitations (CDCCLs) to prevent ignition sources in the fuel tanks, in accordance with a method approved by the Manager, International Branch, ANM-116, Transport Airplane Directorate, FAA; or the European Aviation Safety Agency (EASA) (or its delegated agent). Incorporating the new and more restrictive life limits and inspections into the ALS terminates the requirements of paragraph (g) of this AD, and after incorporation has been done, the limitations required by paragraph (g) of this AD may be removed from the ALS.

Note 2: Guidance on revising Chapter 5 of the BAE SYSTEMS (Operations) Limited BAe146 Series/Avro146-RJ Series AMM, Revision 97, dated July 15, 2009, can be found in the applicable sub-chapters listed in Table 1 of this AD.

Table 1—Applicable AMM Sub-Chapters
AMM Sub-chapter | Subject
05-10-01 | Airframe Airworthiness Limitations before Life Extension Programme.
05-10-05 ¹ | Airframe Airworthiness Limitations, Life Extension Programme Landings Life Extended.
05-10-10 ² | Airframe Airworthiness Limitations, Life Extension Programme Calendar Life Extended.
05-10-15 | Aircraft Equipment Airworthiness Limitations.
05-10-17 | Power Plant Airworthiness Limitations.
05-15-00 | Critical Design Configuration Control Limitations (CDCCL)—Fuel System Description and Operation.
05-20-00 ³ | Scheduled Maintenance.
05-20-01 | Airframe Scheduled Maintenance—Before Life Extension Programme.
05-20-05 ¹ | Airframe Scheduled Maintenance—Life Extension Programme Landings Life Extended.
05-20-10 ² | Airframe Scheduled Maintenance—Life Extension Programme Calendar Life Extended.
05-20-15 | Aircraft Equipment Scheduled Maintenance.
¹ Applicable only to airplanes post-modification HCM20011A or HCM20012A or HCM20013A.
² Applicable only to airplanes post-modification HCM20010A.
³ Paragraphs 5 and 6 only, on the Corrosion Prevention and Control Program (CPCP) and the Supplemental Structural Inspection Document (SSID).

Note 3: Sub-chapter 05-15-00 of the BAE SYSTEMS (Operations) Limited BAe146 Series/Avro146-RJ Series AMM, is the CDCCL.

Note 4: Within Sub-chapter 05-20-00 of the BAE SYSTEMS (Operations) Limited BAe146 Series/Avro146-RJ Series AMM, the relevant issues of the support documents are as follows: BAE SYSTEMS (Operations) Limited BAe 146 Series/Avro 146-RJ Corrosion Prevention and Control Program Document CPCP-146-01, Revision 3, dated July 15, 2008, including BAE SYSTEMS (Operations) Limited Temporary Revision (TR) 2.1, dated December 2008; and BAE SYSTEMS (Operations) Limited BAe146 Series Supplemental Structural Inspection Document SSID-146-01, Revision 1, dated June 15, 2009.

Note 5: Within Sub-chapter 05-20-01 of the BAE SYSTEMS (Operations) Limited BAe146 Series/Avro146-RJ Series AMM, the relevant issue of BAE SYSTEMS (Operations) Limited BAe 146/Avro 146-RJ Maintenance Review Board Report Document MRB 146-01, Issue 2, is Revision 15, dated March 2009 (mis-identified in EASA AD 2009-0215, dated October 7, 2009, as being dated May 2009).

Note 6: Notwithstanding any other maintenance or operational requirements, components that have been identified as airworthy or installed on the affected airplanes before the revision of the ALS, as required by paragraph (g) of this AD; or before revision of Chapter 5 of the AMM, as required by paragraph (h) of this AD; do not need to be reworked in accordance with the CDCCLs. However, once the ALS or AMM has been revised, future maintenance actions on these components must be done in accordance with the CDCCLs.

(i) Except as specified in paragraph (k) of this AD: After the actions specified in paragraph (g) or (h) of this AD have been accomplished, no alternative inspections or inspection intervals may be approved for the structural elements specified in the documents listed in paragraph (g) or (h) of this AD.

(j) Modifying the main fittings of the main landing gear in accordance with Messier-Dowty Service Bulletin 146-32-171, dated August 11, 2009, extends the safe limit of the main landing gear main fitting from 32,000 landings to 50,000 landings on the main fitting.

Alternative Methods of Compliance (AMOCs)

(k) The Manager, International Branch, ANM-116, Transport Airplane Directorate, FAA, has the authority to approve AMOCs for this AD, if requested using the procedures found in 14 CFR 39.19. Send information to ATTN: Todd Thompson, Aerospace Engineer, International Branch, ANM-116, FAA, Transport Airplane Directorate, 1601 Lind Avenue, SW., Renton, Washington 98057-4056; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(l) EASA Airworthiness Directive 2009-0215, dated October 7, 2009; and Messier-Dowty Service Bulletin 146-32-171, dated August 11, 2009; also address the subject of this AD.

Material Incorporated by Reference

(m) If you do the optional modification specified in this AD, you must use Messier-Dowty Service Bulletin 146-32-171, dated August 11, 2009, to do those actions, unless the AD specifies otherwise.

(1) The Director of the Federal Register approved the incorporation by reference of this service information under 5 U.S.C. 552(a) and 1 CFR part 51.

(2) For Messier-Dowty service information identified in this AD, contact Messier-Dowty Limited, Cheltenham Road, Gloucester GL2 9QH, England; telephone +44(0)1452 712424; fax +44(0)1452 713821; Internet https://techpubs.services.messier-dowty.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on May 3, 2010.
Ali Bahrami,
Manager, Transport Airplane Directorate, Aircraft Certification Service.

[FR Doc. 2010-11356 Filed 5-20-10; 8:45 am]

BILLING CODE 4910-13-P